DEPARTMENT OF HEALTH AND HUMAN SERVICES

Administration for Children and Families

Request for Public Comment on the Proposed Adoption of Administration for Native Americans Program Policies and Procedures

CFDA Numbers: 93.581, 93.587, 93.612

AGENCY: Administration for Native Americans, Administration for Children and Families, Department of Health and Human Services.

ACTION: Notice for public comment.

SUMMARY: Pursuant to the Native American Programs Act of 1974 (NAPA), as amended, the Administration for Native Americans (ANA) is required to provide members of the public an opportunity to comment on proposed changes in interpretive rules and general statements of policy and to give notice of the final adoption of such changes no less than 30 days before such changes become effective. In accordance with notice requirements of NAPA, ANA herein describes proposed interpretive rules and general statements of policy that relate to ANA's funding opportunities beginning in Fiscal Year (FY) 2019. Changes to FY 2019 Funding Opportunity Announcements (FOAs) will be based on the following previously published programs: Environmental Regulatory Enhancement (ERE), HHS-2018-ACF-ANA-NR-1344; Native American Language Preservation and Maintenance-Esther Martinez Immersion (EMI), HHS-2018-ACF-ANA-NB-1343; Native American Language Preservation and Maintenance (P&M), HHS-2018-ACF-ANA-NL-1342; Social and Economic Development Strategies (SEDS), HHS-2018-ACF-ANA-NA-1339; Social and Economic Development Strategies-Alaska (SEDS-AK), HHS-2018-ACF-ANA-NK-1340; and Native Youth Initiative for Leadership, Empowerment, and Development (ILEAD), HHS-2018-ACF-ANA-NC-1341.

DATES: Comments are due by December 10, 2018.

ADDRESSES: Comments in response to this notice should be addressed to Carmelia Strickland, Director of Program Operations, Administration for Native Americans, 330 C Street SW, Washington, DC 20201. Delays may occur in mail delivery to federal offices; therefore, a copy of comments should be emailed to ANAComments@acf.hhs.gov. Comments will be available for inspection by members of the public at the Administration for Native Americans, 330 C Street SW, Washington, DC 20201.

FOR FURTHER INFORMATION CONTACT: Carmelia Strickland, Director, Division of Program Operations, Administration for Native Americans, 330 C Street SW, Washington, DC 20201. Telephone: (877) 922-9262; Email: ANAComments@acf.hhs.gov.

SUPPLEMENTARY INFORMATION: Section 814 of NAPA, as amended, incorporates provisions of the Administrative Procedure Act that require ANA to provide notice of its proposed interpretive rules and statements of policy and to seek public comment on such proposals. This notice serves to fulfill the statutory notice and public comment requirement. ANA has also chosen to provide notice of its proposed rules of agency practice and procedure. The proposed interpretive rules, statements of policy, and rules of ANA practice and procedure reflected in clarifications, modifications, and new text will appear in the five FY 2019 FOAs: ERE, EMI, P&M, SEDS, and SEDS-AK. This notice also reflects ANA's elimination of the ILEAD FOA.

ANA's current FOAs can be accessed at: http://www.acf.hhs.gov/grants/open/foa/office/ana or http://www.acf.hhs.gov/grants/open/foa/. Synopses and application forms will be available on https://www.grants.gov.

A. Interpretive rules, statements of policy, procedures, and practice. The proposals below reflect ANA's proposed changes in rules, policy, or procedure which will take effect in the FY 2019 FOAs.

1. Elimination of the ILEAD FOA. In FY 2019, ANA will no longer publish a FOA for the ILEAD program. ILEAD was established in FY 2015 as a demonstration project with a focus on identifying best practices and effective strategies for working with, and developing leadership among Native American youth. In the first year, ANA funded five cooperative agreements under the program. Due to an overwhelming response to the initiative, ANA published subsequent ILEAD FOAs in FY 2016 and FY 2017, and funded an additional 19 grants. The purpose of the ILEAD program was to work with a cohort of recipients to identify best practices and youth-driven solutions to enhance the development of future leaders for Native communities. In addition, the ILEAD program limited the targeted beneficiaries of the youth between 14 and 24 years of age. ANA proposes to discontinue publication of the ILEAD FOA for FY 2019 to ensure that all projects previously funded under the initiative have the benefit of working as a cohort, which was established and is led by the initial 5 cooperative agreements. Currently, all funded ILEAD projects have project periods that end on or before September 29, 2021. Youth projects previously eligible for funding under the ILEAD program are still eligible for funding under ANA's SEDS program, which has a higher funding ceiling of up to $400,000 instead of $300,000 per budget period.

2. Assurance of Community Representation on Board of Directors. ANA has a long-standing policy to require that applicants, other than tribes or Alaska Native villages, must show that a majority of board members are representative of a Native American community to be served. Applicants must submit documentation that identifies each board member by name and indicates his/her affiliation or relationship to at least one of ANA's three categories of community representation, which include: (1) Members of federally or state-recognized tribes; (2) persons who are recognized by members of the eligible Native American community to be served as having a cultural relationship with that community; or (3) persons considered to be Native American as defined in 45 CFR 1336.10 and Native American Pacific Islanders as defined in Section 815 of NAPA. ANA wishes to clarify that the second category of community representation requires a “cultural” relationship defined as lineage, familial, marriage, or other traditional or social connection to the community and not a business or work relationship, (e.g. person that owns a business or is employed by an organization that serves the Native community). Applicants that do not include this documentation will be considered non-responsive, and the application will not be considered for competition.

3. Only One Active Award Per CFDA Number. ANA has a long-standing policy that organizations can have no more than one active award per Catalog of Federal Domestic Assistance (CFDA) number for an ANA program at any given time. SEDS, SEDS-AK, Native Assets Building Initiative (NABI), and ILEAD have the same CFDA number 93.612. From FY 2016 to FY 2018, ANA allowed an exception for organizations that were applying for the ILEAD FOA to also have an award for SEDS, SEDS-AK, or NABI even though they had the same CFDA number as ILEAD. For FY 2019, this exception will not be available to any currently funded ILEAD grantees; therefore, the policy will remain effective to limit the number of awards an organization can have under a single CFDA number. This policy change will allow other Native communities without current ANA funding to receive an award and therefore increase the impact of funding in more communities.

4. Evaluation Criteria. In FY 2018, ANA made substantial revisions to the application requirements and evaluation criteria included in our FOAs. The purpose of these revisions were to shift from a deficit-based, to strengths-based approach for application planning and development, as well as to emphasize a community-based approach to project planning and implementation. ANA stands behind the revisions made in FY 2018 and does not plan to change the information being requested. However, during the panel review process, ANA received feedback that the revised evaluation criteria was difficult to understand and apply. In FY 2019, ANA will reorder the evaluation criteria and include sub-criteria with smaller point allotments. We will also remove duplications and clarify language. ANA proposes the following Evaluation criteria scores for FY 2019:

Expected Outcomes for a maximum of 35 points, to consist of: Long Term Community Goal (2 points), Current Community Condition (5 points); Project Goal (4 points); Objectives (7 points); Outcomes and Indicators (7 points); Outputs (5 points); Outcome Tracking Strategy (4 points); and Outcome Tracker (1 point).

Approach for a maximum of 50 points, to consist of: Planning, Readiness and Implementation Strategy (20 points); Community-Based Strategy (8 points); Personnel, Partnerships and Organizational Capacity (12 points); and the Objective Work Plan (OWP) (10 points).

Budget and Budget Justification for a maximum of 15 points, to consist of: Line Item Budget (5 points) and Budget Justification (10 points).

These changes are meant to reorganize the information into smaller point allotments in order to make ANA's evaluation criterion more approachable, and to build consistency in the number of points being allocated for specific application information. As a result of the changes to criteria scoring, ANA will not use a Scoring Guide in its FY 2019 FOAs.

5. Changes to SEDS-AK FOA. ANA plans to modify the description of program purpose for the SEDS-AK FOA to provide an area of interest for economic growth. In addition, ANA wants to provide a competitive advantage for smaller Alaska Native villages or organizations that have never received ANA funding. Therefore, the FOA will state that reviewers may add up to 5 bonus points in the scoring criteria if an eligible entity that has never received an ANA award. ANA staff will confirm during the objective review process whether or not an applicant organization for SEDS-AK has received a past ANA award.

Statutory Authority: Section 814 of the Native American Programs Act of 1974 (NAPA), as amended.

Jean Hovland,
Commissioner, Administration for Native Americans.

[FR Doc. 2018-24458 Filed 11-7-18; 8:45 am]

BILLING CODE 4184-34-P